DEPARTMENT OF TRANSPORTATION

Office of the Secretary

Aviation Proceedings, Agreements Filed During the Week Ending July 28, 2000

The following Agreements were filed with the Department of Transportation under the provisions of 49 U.S.C. 412 and 414. Answers may be filed within 21 days after the filing of the application.

Docket Number: OST-2000-7691.

Date Filed: July 25, 2000.

Parties: Members of the International Air Transport Association.

Subject: PTC12 USA-EUR Fares 0047 dated July 21, 2000, Resolution 015h—USA Add-on Amounts between USA and UK, Intended effective date: October 1, 2000.

Dorothy Y. Beard,
Federal Register Liaison.

[FR Doc. 00-20338 Filed 8-9-00; 8:45 am]

BILLING CODE 4910-62-U